DEPARTMENT OF EDUCATION

Applications for New Awards; Ronald E. McNair Postbaccalaureate Achievement Program

AGENCY: Office of Postsecondary Education; Department of Education.

ACTION: Notice.

Overview Information

Ronald E. McNair Postbaccalaureate Achievement Program; Notice inviting applications for new awards for fiscal year (FY) 2012.

Catalog of Federal Domestic Assistance (CFDA) Number: 84.217A.

DATES:

Applications Available: May 9, 2012.

Deadline for Transmittal of Applications: June 8, 2012.

Deadline for Intergovernmental Review: August 7, 2012.

Full Text of Announcement

I. Funding Opportunity Description

Purpose of Program: The Ronald E. McNair Postbaccalaureate Achievement Program (McNair Program) is one of the seven programs known as the Federal TRIO Programs, which provide postsecondary educational support for qualified individuals from disadvantaged backgrounds. The McNair Program is a discretionary grant program that awards grants to institutions of higher education for projects designed to provide disadvantaged college students with effective preparation for doctoral study.

The President has set a clear goal for our education system: By 2020, the United States will once again lead the world in college attainment. The Department views the McNair Program as a critical component in the effort to improve the quality of student outcomes so that more students are well prepared for college and careers. To more strategically align the McNair Program with overarching reform strategies for postsecondary completion and graduate school enrollment, the Department is announcing three competitive preference priorities for this competition.

Priorities: There are three competitive preference priorities: Competitive Preference Priority 1—Promoting Science, Technology, Engineering, and Mathematics (STEM) Education; Competitive Preference Priority 2—Improving Productivity; and Competitive Preference Priority 3—Building Evidence of Effectiveness. These three priorities are from the Department's notice of final supplemental priorities and definitions for discretionary grant programs, published in the Federal Register on December 15, 2010 (75 FR 78486), and corrected on May 12, 2011 (76 FR 27637).

For FY 2012 and any subsequent year in which we make awards from the list of unfunded applicants from this competition, these priorities are competitive preference priorities. Under 34 CFR 75.105(c)(2)(i), we award up to an additional six points to an application that meets Competitive Preference Priority 1, up to an additional four points to an application that meets Competitive Preference Priority 2, and up to an additional four points to an application that meets Competitive Preference Priority 3, depending on how well the application meets these priorities. The maximum competitive preference points an application can receive under this competition is 12.

Note: Applicants must include in the one-page abstract submitted with the application a statement indicating which competitive preference priorities they have addressed. The priorities addressed in the application must also be listed on the McNair Program Profile Sheet.

These priorities are:

Competitive Preference Priority 1—Promoting Science, Technology, Engineering, and Mathematics (STEM) Education (Up to 6 Additional Points)

Background

The inclusion of Competitive Preference Priority 1 will encourage applicants to increase the number of individuals in the McNair Program's target population that have access to rigorous STEM programs at the postsecondary level and are prepared for graduate study and careers in STEM. The McNair Program's target population includes groups underrepresented in graduate education, as defined in the McNair Program regulations; low-income individuals who are first generation college students; and groups underrepresented in STEM as documented by standard statistical references or other national survey data submitted to and accepted by the Secretary.

Data from the National Center for Education Statistics show that 35 percent of all academic programs offered at McNair grantee institutions are in the STEM fields, compared to just 32 percent of academic programs offered nationally at 4-year institutions. Additionally, 99 percent of McNair grantee institutions offer at least one academic program in the STEM fields. The Department believes that McNair projects are positioned to promote and increase the number of students in the STEM fields.

Definition: This definition is from the McNair Program regulations, 34 CFR 647.7(b), and applies to Competitive Preference Priority 1.

“Groups underrepresented in graduate education” means Black (non-Hispanic), Hispanic, American Indian, Alaskan Native (as defined in section 7306 of the Elementary and Secondary Education Act of 1965, as amended (ESEA)), Native Hawaiians (as defined in section 7207 of the ESEA), and Native American Pacific Islanders (as defined in section 320 of the Higher Education Act of 1965, as amended).

Priority

Projects that are designed to address one or more of the following priority areas:

(a) Providing students with increased access to rigorous and engaging coursework in STEM. (2 points)

(b) Increasing the number and proportion of students prepared for postsecondary or graduate study and careers in STEM. (2 points)

(c) Increasing the number of individuals from groups traditionally underrepresented in STEM, including minorities, individuals with disabilities, and women, who are provided with access to rigorous and engaging coursework in STEM or who are prepared for postsecondary or graduate study and careers in STEM. (2 points)

Note: Applicants addressing this priority might want to describe the percentage of students they are proposing to serve that would be in the STEM fields.

Competitive Preference Priority 2—Improving Productivity (Up to 4 Additional Points)

Background

The Department is using Competitive Preference Priority 2 because it believes that it is more important than ever to support projects that are designed to significantly increase efficiency in the use of resources while improving student outcomes. A key performance measure for the McNair Program is the efficiency measure-cost per successful outcome, where a successful outcome is defined by the number of students enrolling and persisting in graduate education. Applicants proposing projects designed to decrease their cost per participant while improving student outcomes will be more likely to perform well on this efficiency measure.

Priority

Projects that are designed to significantly increase efficiency in the use of time, staff, money, or other resources while improving student learning or other educational outcomes (i.e., outcome per unit of resource). Such projects may include innovative and sustainable uses of technology, modification of school schedules and teacher compensation systems, use of open educational resources (as defined in this notice), or other strategies.

Note: The types of projects identified above are suggestions for ways to improve productivity. The Department recognizes that some of these examples, such as modification of teacher compensation systems, may not be relevant for the context of this notice. Accordingly, grantees might want to consider responding to this notice in a way that improves productivity in a relevant, higher education context. Other strategies for improving productivity could include modification of the summer research experience, methods of supplementing grant funds with other funds, and employing graduate mentors versus faculty mentors during the first year of research.

Note: Although not required, the Secretary encourages applicants addressing this priority to explain how they will serve the same or an increased number of students at a lower cost per participant. The Department is interested in seeing strong plans that propose to serve an increasing number of students at a lower cost per participant.

Competitive Preference Priority 3—Building Evidence of Effectiveness (Up to 4 Additional Points)

Background: The McNair Program is an important investment aimed at increasing the number of low-income, first generation students that complete undergraduate education and enter and complete graduate school. But this investment is insufficient to provide these services to all students who would benefit from the program. Accordingly, the Department is interested in projects that propose ways to increase the evidence base around strategies or activities that may help students from low-income and first-generation backgrounds complete undergraduate education and enter and complete graduate programs, particularly in the STEM fields.

Priority: Projects that propose evaluation plans that are likely to produce valid and reliable evidence in the following priority area:

Identifying and improving practices, strategies, and policies that may contribute to improving outcomes. Under this priority, at a minimum, the outcome of interest is to be measured multiple times before and after the treatment for project participants and, where feasible, for a comparison group of non-participants.

Note: Applicants addressing this priority might want to consider how their plans for evaluation would be able to provide more information about what practices, strategies, and policies may help more low-income, first-generation students complete undergraduate education in STEM fields and enter and complete graduate programs in the STEM fields.

Note: To help build evidence of effectiveness, applicants might want to consider tracking outcomes and results for a group of students not served by the McNair Program in order to establish a comparison group. This would enable McNair projects to better measure the success of students selected for participation in their projects.

Definition: This definition is from the notice of final supplemental priorities and definitions, published in the Federal Register on December 15, 2010 (75 FR 78486), and corrected on May 12, 2011 (76 FR 27637), and applies to Competitive Preference Priority 2.

“Open educational resources (OER)” means teaching, learning, and research resources that reside in the public domain or have been released under an intellectual property license that permits their free use or repurposing by others.

Program Authority: 20 U.S.C. 1070a-11 and 20 U.S.C. 1070a-15.

Applicable Regulations: (a) The Education Department General Administrative Regulations (EDGAR) in 34 CFR parts 74, 75 (except for 75.215 through 75.221), 77, 79, 80, 82, 84, 86, 97, 98 and 99. (b) The Education Department suspension and debarment regulations in 2 CFR part 3485. (c) The regulations for this program in 34 CFR part 647. (d) The notice of final supplemental priorities and definitions for discretionary grant programs, published in the Federal Register on December 15, 2010 (75 FR 78486), and corrected on May 12, 2011 (76 FR 27637).

Note: The regulations in 34 CFR part 79 apply to all applicants except federally recognized Indian tribes.

Note: The regulations in 34 CFR part 86 apply to institutions of higher education (IHEs) only.

II. Award Information

Type of Award: Discretionary grants.

Estimated Available Funds: $30,588,259.

Contingent upon the availability of funds and the quality of applications, we may make additional awards in FY 2013 from the list of unfunded applicants from this competition.

Estimated Range of Awards: $220,000 to $368,000.

Estimated Average Size of Awards: $240,852.

Maximum Award

For an applicant not currently receiving a McNair Program grant: $220,000 to serve a minimum of 25 eligible participants.

For an applicant currently receiving a McNair Program grant but applying to serve a different campus: $220,000 to serve a minimum of 25 eligible participants.

For an applicant currently receiving a McNair Program grant and not applying to serve a different campus, the maximum award is the amount equal to the applicant's grant award amount for FY 2007, the first year of the previous cycle, to continue to serve at least the same number of participants that was approved for the current project to the extent that continued service to the same number of participants does not result in a per participant cost of more than $8,800.

Note: For an applicant who is currently receiving a McNair Program grant and is serving more than 25 participants, the applicant is encouraged to continue to serve its current number of participants. However, if the applicant proposes to reduce the number of participants to be served, the applicant must propose to serve at least 25 participants at a cost that does not exceed $8,800 per participant.

For any project that proposes to serve less than the minimum number of 25 participants, the maximum award amount that may be requested is an amount equal to $8,800 per participant.

Pursuant to 34 CFR 647.32(a), we will reject any application that proposes a budget exceeding the maximum amount described in this section for a single budget period of 12 months to serve fewer than 25 participants. Pursuant to 34 CFR 647.32(a), we will also reject any application that proposes a budget to serve fewer than 25 participants.

Estimated Number of Awards: 127.

Note: The Department is not bound by any estimates in this notice.

Project Period: Up to 60 months.

III. Eligibility Information

1. Eligible Applicants: Institutions of higher education and combinations of those institutions.

2. Cost Sharing or Matching: This program does not require cost sharing or matching.

3. Other: An applicant may submit more than one application for a McNair grant as long as each application describes a project that serves a different campus or a designated different population (34 CFR 647.10(a)). The McNair Program regulations define “different campus” as “a site of an institution of higher education that—(1) Is geographically apart from the main campus of the institution; (2) Is permanent in nature; and (3) Offers courses in educational programs leading to a degree, certificate, or other recognized educational credential.” 34 CFR 647.7(b). The Secretary is not designating any additional populations for which an applicant may submit a separate application under this competition (34 CFR 647.10(b)).

IV. Application and Submission Information

1. Address to Request Application Package: You can obtain an application package via the Internet by downloading the package from the program Web site at: http://www2.ed.gov/programs/triomcnair/index.html.

You can also request a copy of the application package from: Eileen Bland, McNair Program, U.S. Department of Education, 1990 K Street NW., Room 7000, Washington, DC 20006-8510. Telephone: (202) 502-7600 or by email: TRIO@ed.gov.

If you use a telecommunications device for the deaf (TDD) or a text telephone (TTY), call the Federal Relay Service (FRS), toll free, at 1-800-877-8339.

Individuals with disabilities can obtain a copy of the application package in an accessible format (e.g., braille, large print, audiotape, or compact disc) by contacting the program contact person listed in this section.

2. Content and Form of Application Submission:

Requirements concerning the content of an application, together with the forms you must submit, are in the application package for this program.

Page Limit: The application narrative is where you, the applicant, address the selection criteria that reviewers use to evaluate your application. You must limit the application narrative (Part III) to no more than 50 pages. However, any application addressing the competitive preference priorities may include up to four additional pages for each priority addressed (a total of 12 pages if all three priorities are addressed) in a separate section of the application submission to discuss how the application meets the competitive preference priority or priorities. These additional pages cannot be used for or transferred to the project narrative. Partial pages will count as a full page toward the page limit. For purpose of determining compliance with the page limit, each page on which there are words will be counted as one full page. Applicants must use the following standards:

• A “page” is 8.5″ x 11″, on one side only, with 1″ margins at the top, bottom, and both sides. Page numbers and an identifier may be within the 1″ margin.

• Double space (no more than three lines per vertical inch) all text in the application narrative, except titles, headings, footnotes, quotations, references, captions, and all text in charts, tables, figures, and graphs.

• Use a font that is 12 point or larger.

• Use one of the following fonts: Times New Roman, Courier, Courier New, or Arial. An application submitted in any other font (including Times Roman and Arial Narrow) will not be accepted.

The page limit does not apply to Part I, the Application for Federal Assistance Face Sheet (SF 424); Part II, the budget information summary form (ED Form 524); the McNair Program Profile; the one-page Project Abstract narrative; and the assurances and certifications. The page limit also does not apply to a table of contents. If you include any attachments or appendices, these items will be counted as part of Part III, the application narrative, for purposes of the page-limit requirement. You must include your complete response to the selection criteria, which also includes the budget narrative, in Part III, the application narrative.

We will reject your application if you exceed the page limit.

3. Submission Dates and Times:

Applications Available: May 9, 2012.

Deadline for Transmittal of Applications: June 8, 2012.

Applications for grants under this program must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under For Further Information Contact in section VII of this notice. If the Department provides an accommodation or auxiliary aid to an individual with a disability in connection with the application process, the individual's application remains subject to all other requirements and limitations in this notice.

Deadline for Intergovernmental Review: August 7, 2012.

4. Intergovernmental Review: This program is subject to Executive Order 12372 and the regulations in 34 CFR part 79. Information about Intergovernmental Review of Federal Programs under Executive Order 12372 is in the application package for this program.

5. Funding Restrictions: We specify unallowable costs in 34 CFR 647.31. We reference additional regulations outlining funding restrictions in the Applicable Regulations section of this notice.

6. Data Universal Numbering System Number, Taxpayer Identification Number, and Central Contractor Registry: To do business with the Department of Education, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

In addition, if you are submitting your application via Grants.gov, you must (1) be designated by your organization as an Authorized Organization Representative (AOR); and (2) register yourself with Grants.gov as an AOR. Details on these steps are outlined at the following Grants.gov Web page: www.grants.gov/applicants/get_registered.jsp.

7. Other Submission Requirements: Applications for grants under this program must be submitted electronically unless you qualify for an exception to this requirement in accordance with the instructions in this section.

a. Electronic Submission of Applications

Applications for grants under the McNair Program, CFDA number 84.217A, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the McNair Program at www.Grants.gov. You must search for the downloadable application package for this program by the CFDA number. Do not include the CFDA number's alpha suffix in your search (e.g., search for 84.217, not 84.217A).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this program to ensure that you submit your application in a timely manner to the Grants.gov system. You can also find the Education Submission Procedures pertaining to Grants.gov under News and Events on the Department's G5 system home page at http://www.G5.gov.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a PDF (Portable Document) format only. If you upload a file type other than a PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Eileen Bland, U.S. Department of Education, 1990 K Street NW., Room 7000, Washington, DC 20006-8510. FAX: (202) 502-7857.

Your paper application must be submitted in accordance with the mail or hand delivery instructions described in this notice.

b. Submission of Paper Applications by Mail

If you qualify for an exception to the electronic submission requirement, you may mail (through the U.S. Postal Service or a commercial carrier) your application to the Department. You must mail the original and three copies of your application, on or before the application deadline date, to the Department at the following address: U.S. Department of Education, Application Control Center, Attention: (CFDA Number 84.217A), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you qualify for an exception to the electronic submission requirement, you (or a courier service) may deliver your paper application to the Department by hand. You must deliver the original and two copies of your application by hand, on or before the application deadline date, to the Department at the following address: U.S. Department of Education, Application Control Center, Attention: (CFDA Number 84.217A), 550 12th Street SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program competition are from 34 CFR 647.21 and are listed in the application package.

2. Review and Selection Process: A panel of non-Federal readers will review each application in accordance with the selection criteria and the competitive preference priorities, pursuant to 34 CFR 647.20. The individual scores of the readers will be added and the sum divided by the number of readers to determine the reader score received in the review process.

In accordance with 34 CFR 647.22, the Secretary will evaluate the prior experience of applicants that received a McNair Program project grant for project years 2008-09, 2009-10 and 2010-11. Based on that evaluation, the Secretary may add prior experience points to the application's averaged reader score to determine the total score for each application. The Secretary makes new grants in rank order on the basis of the total scores of the reader scores and prior experience points awarded to each application.

Pursuant to 34 CFR 647.20(c), if there are insufficient funds for all applications with the same total scores, the Secretary will choose among the tied applications so as to serve geographical areas that have been underserved by the McNair Program. The Secretary will not make a new grant to an applicant if the applicant's prior project involved the fraudulent use of program funds.

In addition, in making a competitive grant award, the Secretary also requires various assurances including those applicable to Federal civil rights laws that prohibit discrimination in programs or activities receiving Federal financial assistance from the Department of Education (34 CFR 100.4, 104.5, 106.4, 108.8, and 110.23).

3. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or, is otherwise not responsible.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: The success of the McNair Program will be measured by the McNair Program participants' success in completing research and participation in scholarly activities, enrollment in a graduate program, continued enrollment in graduate study, and the attainment of a doctoral degree. All McNair Program grantees will be required to submit an annual performance report.

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contacts

For Further Information Contact: Eileen Bland, U.S. Department of Education, 1990 K Street NW., Room 7000, Washington, DC 20006-8510. Telephone: (202) 502-7600 or by email: TRIO@ed.gov.

If you use a TDD or a TTY, call the FRS, toll free, at 1-800-877-8339.

VIII. Other Information

Accessible Format: Individuals with disabilities can obtain this document and a copy of the application package in an accessible format (e.g., braille, large print, audiotape, or compact disc) on request to one of the program contact persons listed under For Further Information Contact in section VII of this notice.

Electronic Access to This Document: The official version of this document is the document published in the Federal Register. Free Internet access to the official edition of the Federal Register and the Code of Federal Regulations is available via the Federal Digital System at: www.gpo.gov/fdsys. At this site you can view this document, as well as other documents of this Department published in the Federal Register, in text or Adobe Portable Document Format (PDF). To use PDF, you must have Adobe Acrobat Reader, which is available free at this site.

You may also access documents of the Department published in the Federal Register by using the article search feature at: www.federalregister.gov. Specifically, through the advanced search feature at this site, you can limit your search to documents published by the Department.

Dated: May 4, 2012.
Eduardo M. Ochoa,
Assistant Secretary for Postsecondary Education.

[FR Doc. 2012-11252 Filed 5-8-12; 8:45 am]

BILLING CODE 4000-01-P